DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Data Collection Tool for State Offices of Rural Health Grant Program

(OMB No. 0915-0322)—Extension

The mission of the Office of Rural Health Policy (ORHP) is to sustain and improve access to quality care services for rural communities. In its authorizing language (Sec. 711 of the Social Security Act [42 U.S.C. 912]), Congress charged ORHP with administering grants, cooperative agreements, and contracts to provide technical assistance and other activities as necessary to support activities related to improving health care in rural areas.

In accordance with the Public Health Service Act, Section 338J; 42 U.S.C. 254r, the Health Resources and Services Administration proposes to revise the State Offices of Rural Health Grant Program—Guidance and Forms for the Application. The guidance is used annually by 50 States in writing applications for grants under the State Offices of Rural Health (SORH) Grant Program of the Public Health Service Act, and in preparing the required report.

ORHP seeks to expand the information gathered from grantees on their efforts to provide technical assistance to clients within their State. SORH grantees would be required to submit a Technical Assistance Report that includes: (1) The total number of technical assistance encounters provided directly by the Grantee; and, (2) the total number of unduplicated clients that received direct technical assistance from the grantee. Submission of the Technical Assistance Report would be done via e-mail to ORHP no later than 30 days after the end of each twelve month budget period.

The estimated average annual burden is as follows:

Form | Number of respondents | Responses per respondent | Burden hours per response | Total burden hours
Technical Assistance Report | 50 | 1 | 12.5 | 625
Total | 50 |  |  | 625

Written comments and recommendations concerning the proposed information collection should be sent within 30 days of this notice to the desk officer for HRSA, either by e-mail to OIRA_submission@omb.eop.gov or by fax to 202-395-6974. Please direct all correspondence to the “attention of the desk officer for HRSA.”

Dated: May 11, 2010.
Sahira Rafiullah,
Director, Division of Policy and Information Coordination.

[FR Doc. 2010-11835 Filed 5-17-10; 8:45 am]

BILLING CODE 4165-15-P